DEPARTMENT OF HOMELAND SECURITY

Coast Guard

[USCG-2004-17511]

Collection of Information Under Review by Office of Management and Budget (OMB): OMB Control Numbers: 1625-0025 [Formerly 2115-0100], 1625-0030 [Formerly 2115-0120], 1625-0072 [Formerly 2115-0613], 1625-0078 [Formerly 2115-0623] and 1625-0082 [Formerly 2115-0628].

AGENCY: Coast Guard, DHS.

ACTION: Request for comments.

SUMMARY: In compliance with the Paperwork Reduction Act of 1995, the Coast Guard intends to seek the approval of OMB for the renewal of five Information Collection Requests (ICRs). The ICRs comprise (1) 1625-0025, Carriage of Bulk Solids Requiring Special Handling—46 CFR Part 148; (2) 1625-0030, Oil and Hazardous Materials Transfer Procedures; (3) 1625-0072, Waste Management Plans, Refuse Discharge Logs, and Letters of Instruction for Certain Persons-in-Charge (PIC); (4) 1625-0078, Licensing and Manning Requirements for Officers of Towing Vessels; and (5) 1625-0082, Navigation Safety Equipment and Emergency Instructions for Certain Towing Vessels. Before submitting the ICRs to OMB, the Coast Guard is inviting comments on them as described below.

DATES: Comments must reach the Coast Guard on or before June 14, 2004.

ADDRESSES: To make sure that your comments and related material do not enter the docket [USCG-2004-17511] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, room 6106 (Attn: Mr. Arthur Requina), 2100 Second Street SW., Washington, DC 20593-0001. The telephone number is 202-267-2326.

FOR FURTHER INFORMATION CONTACT: Mr. Arthur Requina, Office of Information Management, 202-267-2326, for questions on these documents; or Ms. Andrea M. Jenkins, Program Manager, U.S. DOT, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act” below.

Submitting comments: If you submit a comment, please include your name and address, identify the docket number for this request for comment [USCG-2004-17511], indicate the specific section of this document to which each comment applies, and give the reason for each comment. You may submit your comments and material by electronic means, mail, fax, or delivery to the Docket Management Facility at the address under ADDRESSES: but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 [65 FR 19477], or you may visit http://dms.dot.gov.

Information Collection Requests

1. Title: Carriage of Bulk Solids Requiring Special Handling—46 CFR Part 148.

OMB Control Number: 1625-0025 [Formerly 2115-0100].

Summary: The information in the application for a special permit allows the Coast Guard to: (1) Determine the severity of the hazard posed by the material; (2) set specific guidelines for safe carriage; or, (3) if the material presents too great a hazard, deny permission for shipping the material.

Need: The Coast Guard administers and enforces statutes and rules for the safe transport and stowage of hazardous materials, including bulk solids. Under 46 CFR part 148, the Coast Guard may issue special permits for the carriage of bulk solids requiring special handling.

Respondents: Owners and operators of vessels that carry certain bulk solids.

Frequency: On occasion.

Burden Estimates: The estimated burden is 1,130 hours a year.

2. Title: Oil and Hazardous Materials Transfer Procedures.

OMB Control Number: 1625-0030 [Formerly 2115-0120].

Summary: The collection of information requires vessels with a cargo capacity of 250 barrels or more of oil or hazardous materials to develop and maintain transfer procedures. Transfer procedures provide basic safety information for operating transfer systems with the goal of pollution prevention.

Need: Title 33 U.S.C. 1231 authorizes the Coast Guard to prescribe regulations related to the prevention of pollution. Title 33 CFR part 155 prescribe pollution prevention regulations including those related to transfer procedures.

Respondents: Owners and operators of vessels.

Frequency: On occasion.

Burden Estimate: The estimated burden is 89 hours a year.

3. Title: Waste Management Plans, Refuse Discharge Logs, and Letters of Instruction for Certain Persons-in-Charge (PIC).

OMB Control Number: 1625-0072 [Formerly 2115-0613].

Summary: This information is needed to ensure that: (1) certain U.S. oceangoing vessels develop and maintain a waste management plan; (2) certain U.S. oceangoing vessels maintain refuse discharge records; and (3) certain individuals that act as person-in-charge of the transfer of fuel receive a letter of instruction, for prevention of pollution.

Need: This collection of information is needed as part of the Coast Guard's pollution prevention compliance program.

Respondents: Owners, operators, masters, and persons-in-charge of vessels.

Frequency: On occasion.

Burden Estimate: The estimated burden is 55,484 hours a year.

4. Title: Licensing and Manning Requirements for Officers of Towing Vessels.

OMB Control Number: 1625-0078 [Formerly 2115-0623].

Summary: Licensing and manning requirements ensure that towing vessels operating on the navigable waters of the U.S. are under the control of licensed officers who meet certain qualification and training standards.

Need: Title 46 CFR part 10 prescribe regulations for the licensing of maritime personnel. This information collection is necessary to ensure that a mariner's training information is available to assist in determining his or her overall qualifications to hold certain licenses.

Respondents: Owners and operators towing vessels.

Frequency: On occasion.

Burden Estimates: The estimated burden is 17,159 hours a year.

5. Title: Navigation Safety Equipment and Emergency Instructions for Certain Towing Vessels.

OMB Control Number: 1625-0082 [Formerly 2115-0628].

Summary: Navigation safety regulations help assure that the mariner piloting a towing vessel has adequate equipment, charts, maps, and other publications. For inspected towing vessels, a muster list and emergency instructions provide effective plans and references for crew to follow in an emergency situation.

Need: The purpose of the regulations is to improve the safety of towing vessels and the crews that operate them.

Respondents: Owners, operators and masters of vessels.

Frequency: On occasion

Burden Estimates: The estimated burden is 367,701 hours a year.

Dated: April 8 2004.
Nathaniel S. Heiner,
Acting, Assistant Commandant for C4 and Information Technology.

[FR Doc. 04-8351 Filed 4-12-04; 8:45 am]

BILLING CODE 4910-15-P